DEPARTMENT OF COMMERCE

Foreign-Trade Zones Board

[Docket 58-2004]

Foreign-Trade Zone 222—Montgomery, AL; Request for Manufacturing Authority, Mobis Alabama, LLC (Automotive Components and Subassemblies)

An application has been submitted to the Foreign-Trade Zones Board (the Board) by the Montgomery Area Chamber of Commerce, grantee of FTZ 222, pursuant to section 400.32(b)(1) of the Board's regulations (15 CFR part 400), requesting authority on behalf of Mobis Alabama, LLC (Mobis) (a subsidiary of Hyundai Mobis Company, of South Korea), to manufacture automotive components and subassemblies under FTZ procedures within FTZ 222. It was formally filed on December 15, 2004.

Mobis operates a facility (600,000 sq.ft./400 employees) within the proposed new Site 3 of FTZ 222 (expansion application pending; Doc. 57-2004; 69 FR 74492, 12-14-2004) located at 1395 Mitchell Young Road, Airport Industrial Park, in Montgomery, Alabama. The plant is used to produce automotive components and subassemblies for passenger vehicles, including: Chassis, bodies, body stampings, doors, transmissions, axles, spindles, half/drive shafts, hubs, universal joints, suspension parts, steering components, steering wheels, bumpers, airbag inflators, and brake hoses, for the U.S. market and export. The proposed manufacturing activity would involve the use of foreign-sourced components (initially representing about 60% of finished product value), including: Plastic tubes/pipe/fittings, sheets/film/foil/tape of plastic, plates/sheets/film/foil/strip of plastic and textile materials (items under Category 229 will be admitted under privileged foreign status—19 CFR 146.41), flexible rubber tubes/hoses, self-adhesive plastic or polyurethane sheets/foil/film, labels, rubber belts, rubber sheets/strips/rods/profiles/plates, seats, seat belts, safety glass, mirrors, flat-rolled steel (will be admitted under privileged foreign status), stranded wire of steel and copper, pins, fasteners, cotter pins, parts of steering systems, half shafts, transmissions and parts of transmissions, gears, flywheels, torque converters, ball/roller screws, clutches, universal/CV joints, sprockets helical springs, brake cables, hangers, bearings, cylinder heads, connecting rods, compasses, thermometers, hydrometers, pyrometers, hygrometer, motors, batteries, ignition parts, lighting equipment, horns, windshield defrosters, audio (radio/CD/tape) components, antennas, alarm systems, electronic switches, automatic regulators, wiring harnesses, plastic handles/knobs, plastic gaskets/seals/belts/fasteners, clasps, buckles, hooks, carpet sets, airbag modules/inflators, brake components, wheels, shock absorbers, radiators, exhaust systems, hinges, pneumatic cylinders/dampeners/regulators, speedometers, tachometers, catalysts of platinum, locks, hinges, composite gaskets, springs, valves, compressors, pumps, air conditioners, relays, boards, panels, consoles, clocks, glass lenses, lighters, and switches (duty rate range: free—8.8%). The application states that the level of Mobis' domestic sourcing will increase in the future.

FTZ procedures would exempt Mobis from Customs duty payments on the foreign components used in production for export to non-NAFTA countries. On shipments for U.S. consumption and to NAFTA markets, the company would be able to elect the finished automotive components and subassembly duty rates (2.5%) for the foreign components listed above that have higher individual rates. The auto duty rate (2.5%) would apply if the finished components and subassemblies are shipped via zone-to-zone transfer to U.S. motor vehicle assembly plants with subzone status. The application indicates that the savings from FTZ procedures would help improve the facility's international competitiveness.

Public comment on the application is invited from interested parties. Submissions (original and three copies) shall be addressed to the Board's Executive Secretary at the address below. The closing date for their receipt is February 28, 2005. Rebuttal comments in response to material submitted during the foregoing period may be submitted during the subsequent 15-day period March 14, 2005.

A copy of the application will be available for public inspection at the following location: Office of the Executive Secretary, Foreign-Trade Zones Board, Franklin Court Building—Rm. 4100W, U.S. Department of Commerce, 1099 14th Street, NW., Washington, DC 20005.

Dated: December 15, 2004.
Dennis Puccinelli,
Executive Secretary.

[FR Doc. 04-28433 Filed 12-28-04; 8:45 am]

BILLING CODE 3510-DS-P